DEPARTMENT OF HEALTH AND HUMAN SERVICES

Centers for Disease Control and Prevention

[30Day-22-0017]

Agency Forms Undergoing Paperwork Reduction Act Review

In accordance with the Paperwork Reduction Act of 1995, the Centers for Disease Control and Prevention (CDC) has submitted the information collection request titled “Application for Training” to the Office of Management and Budget (OMB) for review and approval. CDC previously published a “Proposed Data Collection Submitted for Public Comment and Recommendations” notice on July 26, 2021 to obtain comments from the public and affected agencies. CDC received one comment related to the previous notice, and provided a standard response. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Application for Training (OMB Control No. 0920-0017, Exp. 4/30/2022)—Revision—Center for Surveillance, Epidemiology, and Laboratory Services (CSELS), Centers for Disease Control and Prevention (CDC).

Background and Brief Description

The mission of CDC's Division of Scientific Education and Professional Development (DSEPD) is to support the development of a competent, sustainable, and empowered public health workforce. Professionals in public health, epidemiology, medicine, economics, information science, veterinary medicine, nursing, public policy, and other related professions seek professional development opportunities (both accredited and nonaccredited) through two CDC learning management systems. These two learning management systems are Training and Continuing Education Online (TCEO) (for accredited courses) and CDC TRAIN (for nonaccredited courses developed by CDC programs, grantees, and other funded partners). These two systems allow for the public health workforce to broaden their knowledge and skills to improve the science and practice of public health for domestic and international impact. Both systems currently involve related, but separate, information collection tools and information technology platforms.

The CDC seeks approval to implement changes as follows:

1. In TCEO, two additional accreditation types will be added as options a learner can select, to allow for master certified health education specialists and physician assistants to earn continuing education. Additional text is added to clarify what is requested for the CPE (Continuing Pharmacy Education) ID number.

2. CDC TRAIN is added as a data collection platform. The addition of CDC TRAIN to this request also supports the eventual merger of the two learning systems, a process that is underway and described further below. Adding CDC TRAIN to this revision also would allow CDC programs to collect standardized post-course evaluation data for program improvement, similar to what is done currently in TCEO (see #3).

3. The two standard training evaluation tools in CDC TRAIN are added to evaluate a training's effectiveness (learning transfer and quality training) as well as its promotion, delivery, and learner satisfaction at two time points (immediate post-course and delayed follow-up). This information will provide helpful feedback for training improvement. The new tools for CDC TRAIN were developed based on an extensive feedback process from training developers and evaluators and cognitive testing to refine the questions. To prepare for the future merger of TCEO and CDC TRAIN systems, the content of these tools also include questions that are required for accreditation (from the TCEO Post-Course Evaluation and TCEO Follow-Up Evaluation tools).

Currently in both platforms, data will be collected online, using secure, electronic, web-based, password-protected portals. Respondents will include educational developers requesting accreditation for their trainings (TCEO) and public health and healthcare professionals who seek training (CDC TRAIN and TCEO). No statistical methods will be used to analyze the information collected. CDC will use identifiable information in TCEO to track participant completion of educational activities to facilitate required reporting to earn continuing education credits, hours, or units. Aggregate and non-aggregate data from the evaluations in TCEO and CDC TRAIN will be used to improve educational activities and assess learning outcomes.

Overall, this revision request seeks to achieve three objectives. First, it will allow for short-term continuation of the TCEO system and its ability to serve individuals seeking accredited training. The demand for TCEO's trainings and accreditation remains high and ongoing. Second, it will allow for more standardized evaluation of trainings offered through CDC TRAIN, based on the data collection methods and tools already used successfully in TCEO. Third, by proposing CDC TRAIN as an approved platform, it lays a key step for the eventual discontinuation of the TCEO platform and incorporation of TCEO's trainings and tools into the CDC TRAIN platform. Future change requests for this revision likely will involve additional steps in this merger process, such as the retirement of TCEO as a platform, the discontinuation of the TCEO-specific training evaluation tools in favor of CDC TRAIN's forms, and the absorption of TCEO's trainings and other features into the CDC TRAIN platform. These anticipated changes should not affect the burden hours or type of information that learners are asked to provide. These future changes should improve learners' experiences, through more standardization and centralization; and they should result in significant program management efficiencies for CDC and its training partners.

OMB approval is requested for three years. Participation is voluntary and there are no costs to respondents other than their time. The total estimated annualized burden is 288,150 hours.

Estimated Annualized Burden Hours
Type of respondents | Form name | Number of respondents | Number of responses per respondent | Average burden per response (in hours)
Educational Developers (Health Educators) | TCEO Proposal | 130 | 1 | 5
Public Health and Health Care Professionals (Learners) | TCEO New Participant Registration | 300,000 | 1 | 5/60
Public Health and Health Care Professionals (Learners) | TCEO Post-Course Evaluation | 300,000 | 3 | 10/60
Public Health and Health Care Professionals (Learners) | TCEO Follow-up Evaluation | 30,000 | 3 | 3/60
Public Health and Health Care Professionals (Learners) | CDC TRAIN Immediate Post-Course Evaluation Tool | 300,000 | 3 | 7/60
Public Health and Health Care Professionals (Learners) | CDC TRAIN Delayed Follow-Up Evaluation Tool | 30,000 | 3 | 2/60

Jeffrey M. Zirger,
Lead, Information Collection Review Office, Office of Scientific Integrity, Office of Science, Centers for Disease Control and Prevention.

[FR Doc. 2021-28030 Filed 12-23-21; 8:45 am]

BILLING CODE 4163-18-P